DEPARTMENT OF COMMERCE

National Oceanic and Atmospheric Administration

RIN 0648-XA460

South Atlantic Fishery Management Council; Public Meetings

AGENCY: National Marine Fisheries Service (NMFS), National Oceanic and Atmospheric Administration (NOAA), Commerce.

ACTION: Notice of public meetings.

SUMMARY: The South Atlantic Fishery Management Council will hold a joint meeting of its Executive/Finance Committees; meetings of its Standard Operating, Policy and Procedures (SOPPs) Committee; Southeast Data, Assessment and Review (SEDAR) Committee; Law Enforcement Committee; Ecosystem-Based Management Committee; King and Spanish Mackerel Committee; Golden Crab Committee; Snapper Grouper Committee; Scientific and Statistical Committee (SSC) Selection Committee (Closed Session); Advisory Panel (AP) Selection Committee (Closed Session); and a meeting of the Full Council. The Council will take action as necessary. The Council will also hold an informal public question and answer session regarding agenda items and a public comment session. See SUPPLEMENTARY INFORMATION for additional details.

DATES: The Council meeting will be held June 12-16, 2011. See SUPPLEMENTARY INFORMATION for specific dates and times.

ADDRESSES: The meetings will be held at the Key West Marriott Beachside Hotel, 3841 N. Roosevelt Blvd., Key West, FL 33040; telephone: (1-800) 228-9290 or (305) 296-8100; fax: (305) 293-0205. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; e-mail: kim.iverson@safmc.net.

SUPPLEMENTARY INFORMATION:

Meeting Dates

1. Joint Executive/Finance Committees: June 12, 2011, 1:30 p.m. Until 2:30 p.m.

The Joint Executive/Finance Committees will receive a status report on the calendar year (CY) 2011 Council expenditures and activities as well as review and discuss the CY 2011 Council activities schedule and budget.

2. SOPPs Committee Meeting: June 12, 2011, 2:30 p.m. Until 3:30 p.m.

The SOPPs Committee will review changes to SOPPs in accordance with Council direction, review SSC and AP policies and make appropriate modifications, and approve changes to the Administrative Handbook as proposed by staff.

3. SEDAR Committee Meeting: June 12, 2011, 3:30 p.m. Until 4:30 p.m.

The SEDAR Committee will receive an overview of SEDAR activities as well as a report from NOAA Fisheries' Southeast Fisheries Science Center (SEFSC) on interjurisdictional stocks. In addition, the committee will receive a report from the SEDAR Steering Committee, review administrative procedure revisions, and assess SEDAR 27 (yellowtail snapper and Gulf menhaden) appointments.

4. SSC Selection Committee Meeting: June 12, 2011, 4:30 p.m. Until 5:30 p.m. (Closed Session)

The SSC Selection Committee will examine updated SSC policy, review SSC and Socio-Economic Panel (SEP) applicants and provide recommendations to the Council for appointment of SSC/SEP members.

5. AP Selection Committee: June 13, 2011, 8:30 a.m. Until 9:30 a.m. (Closed Session)

The AP Selection Committee will review updated AP policy, review AP applications and develop recommendations for AP appointments.

6. Law Enforcement Committee: June 13, 2011, 9:30 a.m. Until 10:30 a.m.

The Law Enforcement Committee will assess the recommendations and criteria from the Law Enforcement AP for the Wildlife Officer of the Year award and address other issues as necessary.

7. Ecosystem-Based Management Committee: June 13, 2011, 10:30 a.m. Until 12 noon

The Ecosystem-Based Management Committee will review the Comprehensive Ecosystem-Based Amendment 2 (CE-BA 2), modify the document as appropriate, and recommend the document for approval to the Secretary of Commerce. The Committee will also review the status of catches versus quota for octocorals and receive an update on ecosystem activities.

8. King and Spanish Mackerel Committee: June 13, 2011, 1:30 p.m. Until 3 p.m.

The Mackerel Committee will assess the status of commercial and recreational catches versus quota for species under a quota, review draft options for Mackerel Amendment 19 (prohibition of bag-limit sale), and take any actions necessary on Amendment 18 (addressing the requirements of the Magnuson-Stevens Act, including the establishment of Annual Catch Limits (ACLs) and Accountability Measures (AMs)) based on the joint meeting of the Gulf of Mexico and South Atlantic meetings.

9. Golden Crab Committee Meeting: June 13, 2011, 3 p.m. Until 5 p.m.

The Golden Crab Committee will review the status of commercial catches, review Golden Crab Amendment 5 addressing catch shares, and discuss appropriate changes to Amendment 5.

10. Snapper Grouper Committee Meeting: June 14, 2011, 8:30 a.m. Until 5 p.m. and June 15, 2011, 8:30 a.m. Until 5 p.m.

The Snapper Grouper Committee will receive a report on Oculina activities and review the status of commercial and recreational catches versus quotas for all species under quota management. The Committee will review reports from the SSC and the Snapper Grouper AP and receive an update on the status of Regulatory Amendment 9, addressing commercial trip limits and black sea bass management. The Committee will review Regulatory Amendment 11, addressing options for ending overfishing of speckled hind and warsaw grouper, including modifications to current restrictions for waters deeper than 240 feet as established in Amendment 17B. The Committee will also receive a presentation on analyses conducted by the Southeast Regional Office (SERO) regarding Amendment 11. The Committee will continue to review the Comprehensive ACL Amendment and modify the Amendment as necessary. In addition, the Committee will review Amendment 24 regarding red grouper rebuilding, modify the amendment as necessary, and is scheduled to approve the amendment for public hearing. The Committee will also review the status of several other amendments under development and provide guidance to staff: Amendment 18A regarding golden tilefish, black sea bass and data collection; Amendment 20 pertaining to the wreckfish Individual Transferable Quota (ITQ) program; Amendment 21 regarding comprehensive catch shares; and Amendment 22 regarding the long-term management of red snapper.

Note: There will be an informal public question and answer session with the Regional Administrator from the NMFS and the Council Chairman on June 14, 2011, beginning at 5:30 p.m.

Council Session: June 16, 2011, 8:30 a.m. Until 5 p.m.

From 8:30 a.m. until 9 a.m., the Council will call the meeting to order, adopt the agenda and approve the March 2011 meeting minutes.

Note: A public comment period will be held on June 16, 2011, beginning at 9 a.m., on the Comprehensive Ecosystem-Based Amendment 2 (CE-BA 2), followed by public comment regarding any other items on the Council agenda.

From 10:30 a.m. until 11 a.m., the Council will receive a report from the Snapper Grouper Committee, consider recommendations and take action as appropriate.

From 11 a.m. until 11:15 a.m., the Council will receive a report from the King and Spanish Mackerel Committee, consider recommendations and take action as appropriate.

From 11:15 a.m. until 11:45 a.m., the Council will receive a report from the Ecosystem-Based Management Committee, approve the CE-BA 2 Amendment for submission to the Secretary of Commerce, consider other Committee recommendations and take action as appropriate.

From 11:45 a.m. until 12 noon, the Council will receive a report from the Golden Crab Committee, consider recommendations and take action as appropriate.

From 1:30 p.m. until 1:45 p.m., the Council will receive a report from the SEDAR Committee, consider recommendations and take action as appropriate.

From 1:45 p.m. until 2 p.m., the Council will receive a report from the Joint Executive/Finance Committees, consider recommendations and take action as appropriate.

From 2 p.m. until 2:15 p.m., the Council will receive a report from the SOPPs Committee, approve changes to SSC and AP policies, approve changes to the Administrative Handbook, consider other Committee recommendations and take action as appropriate.

From 2:15 p.m. until 2:30 p.m., the Council will receive a report from the Law Enforcement Committee, consider recommendations from the Committee and take action as appropriate.

From 2:30 p.m. until 2:45 p.m., the Council will receive a report from the SSC Selection Committee, review recommendations from the Committee and appoint members to the SSC. The Council will also consider other Committee recommendations and take action as appropriate.

From 2:45 p.m. until 3 p.m., the Council will receive a report from the AP Selection Committee, review recommendations from the Committee and appoint members to the APs. The Council will also consider other Committee recommendations and take action as appropriate.

From 3 p.m. until 4 p.m., the Council will receive status reports from SERO, assess Experimental Fishing Permits as necessary, receive status reports from the NMFS SEFSC, receive a report regarding the Council Coordination Committee (CCC) meeting, and receive agency reports.

From 4 p.m. until 4:15 p.m., the Council will receive a legal briefing on litigation. (Closed Session)

From 4:15 p.m. until 5 p.m., the Council will review agency and liaison reports and discuss other business, including upcoming meetings.

Documents regarding these issues are available from the Council office (see ADDRESSES).

Although non-emergency issues not contained in this agenda may come before this Council for discussion, those issues may not be the subjects of formal final Council action during these meetings. Council action will be restricted to those issues specifically listed in this notice and any issues arising after publication of this notice that require emergency action under section 305(c) of the Magnuson-Stevens Act, provided the public has been notified of the Council's intent to take final action to address the emergency.

Except for advertised (scheduled) public hearings and public comment, the times and sequence specified on this agenda is subject to change.

Special Accommodations

These meetings are physically accessible to people with disabilities. Requests for sign language interpretation or other auxiliary aids should be directed to the Council office (see ADDRESSES) by May 31, 2011.

Dated: May 24, 2011.
Tracey L. Thompson,
Acting Director, Office of Sustainable Fisheries, National Marine Fisheries Service.

[FR Doc. 2011-13228 Filed 5-26-11; 8:45 am]

BILLING CODE 3510-22-P